DEPARTMENT OF COMMERCE

National Oceanic and Atmospheric Administration

Proposed Information Collection; Comment Request; Southeast Region Permit Family of Forms

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before April 14, 2008.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or copies of the information collection instrument and instructions should be directed to Jason Rueter, (727) 824-5350 or jason.rueter@noaa.gov.

SUPPLEMENTARY INFORMATION:

I. Abstract

The Sustainable Fisheries Division, Southeast Regional Office, National Marine Fisheries Service (NMFS), is entrusted with the conservation, management, and protection of marine fishery resources inhabiting federal waters off the southeastern United States from North Carolina through Texas and Puerto Rico and the U.S. Virgin Islands. The Division is the Region's focal point for implementing NMFS's primary legislative authority for fisheries management and research, the Magnuson-Stevens Fishery Conservation and Management Act (Magnuson-Stevens Act), as amended by the Sustainable Fisheries Act (SFA).

The Division works directly with the Region's three fishery management councils established by Congress to perform the mandates of the Magnuson-Stevens Act. These mandates are accomplished through fishery management plans for marine finfish and crustaceans that support important commercial and recreational fisheries in the Gulf of Mexico, South Atlantic Ocean, and Caribbean Sea and consider conservation and management issues, sociological and economic issues, and regulatory issues. Functions and activities required to fulfill this and other responsibilities as specified in the Magnuson-Stevens Act include: Providing guidance on fisheries management; providing technical assistance and advice in preparing fishery management plans (FMP) in accordance with national standard guidelines and other applicable laws; coordinating public review and compilation of comments; initiating Secretarial review of FMP and amendments; drafting regulations and Federal Register notices, as well as reviewing and responding to comments received during rulemaking; FMP implementation; and monitoring.

A major component of fisheries management in the Region is the permit system and the information collected by these permits. The permit/endorsement system has the following uses:

a. Registration of actual and/or potential fishing vessels/dealers.

b. Collection of data relevant to the characteristics of both vessels and (potential) fishermen.

c. Secure compliance (e.g., do not issue permits until unpaid penalties have been collected and reporting requirements are fulfilled).

d. Provide a mailing list for the dissemination of regulatory information.

e. Register participants for fisheries with special restrictions/limited access.

f. Provide sample frames for data collection.

g. Permit purchase information for fleet economic analyses.

Accordingly, numerous FMP and amendments have been developed by the Region which requires the collection of information for purposes of proper implementation of these rules. Regulations implementing the FMP and their collection of information appear at 50 CFR 600.305, 50 CFR 600.315, and 50 CFR 622.5.

The need to collect percent ownership in a corporation from permit holders is necessary information for the red snapper Individual Fishing Quota (IFQ) program. The IFQ program has a cap of six percent on share percent ownership. Without the ability to track corporate shareholder information, NOAA Fisheries Service will be unable to enforce this share ownership cap. Additionally, crew size is being collected to better understand the nature of the fishery, the number of participants who are not permit holders, and the potential socioeconomic effects of regulations within a given fishery.

II. Method of Collection

Paper applications, electronic reports, and telephone calls are required from participants. Methods of submittal include Internet and facsimile transmission of paper forms.

III. Data

OMB Number: 0648-0205.

Form Number: None.

Type of Review: Regular submission.

Affected Public: Not-for-profit institutions; and business or other for-profit organizations.

Estimated Number of Respondents: 16,820.

Estimated Time per Response: 1 hour and 24 minutes.

Estimated Total Annual Burden Hours: 15,671.

Estimated Total Annual Cost to Public: $650,679.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: February 8, 2008.
Gwellnar Banks,
Management Analyst, Office of the Chief Information Officer.

[FR Doc. E8-2687 Filed 2-13-08; 8:45 am]

BILLING CODE 3510-22-P